ENVIRONMENTAL PROTECTION AGENCY

40 CFR Part 52

[EPA-R05-OAR-2009-0839; FRL-9469-7]

Approval and Promulgation of Air Quality Implementation Plans; Indiana; Redesignation of the Indianapolis Area to Attainment of the 1997 Annual Standard for Fine Particulate Matter

AGENCY: Environmental Protection Agency (EPA).

ACTION: Proposed rule.

SUMMARY: EPA is proposing to approve Indiana's request to redesignate the Indianapolis, Indiana nonattainment area (Hamilton, Hendricks, Johnson, Marion, and Morgan Counties) to attainment for the 1997 annual National Ambient Air Quality Standard (NAAQS or standard) for fine particulate matter (PM2.5), because the request meets the statutory requirements for redesignation under the Clean Air Act (CAA). The Indiana Department of Environmental Management (IDEM) submitted this request on October 20, 2009, and supplemented it on May 31, 2011. EPA's proposed approval involves several additional related actions. EPA is proposing to make a determination that the Indianapolis area has attained the 1997 annual PM2.5 standard. EPA is proposing to approve, as a revision to the Indiana State Implementation Plan (SIP), the State's plan for maintaining the 1997 annual PM2.5 NAAQS through 2025 in the area. EPA is proposing to approve the 2006 emissions inventory for the Indianapolis area as meeting the comprehensive emissions inventory requirement of the CAA. Finally, EPA finds adequate and is proposing to approve Indiana's Nitrogen Oxides (NOX) and PM2.5 Motor Vehicle Emission Budgets (MVEBs) for 2015 and 2025 for the Indianapolis area.

DATES: Comments must be received on or before October 27, 2011.

ADDRESSES: Submit your comments, identified by Docket ID No. EPA-R05-OAR-2009-0839, by one of the following methods:

1. http://www.regulations.gov: Follow the on-line instructions for submitting comments.

2. E-mail: Aburano.Douglas@epa.gov.

3. Fax: (312) 408-2779.

4. Mail: Doug Aburano, Chief, Control Strategies Section, Air Programs Branch (AR-18J), U.S. Environmental Protection Agency, 77 West Jackson Boulevard, Chicago, Illinois 60604.

5. Hand Delivery: Doug Aburano, Chief, Control Strategies Section, Air Programs Branch (AR-18J), U.S. Environmental Protection Agency, 77 West Jackson Boulevard, Chicago, Illinois 60604. Such deliveries are only accepted during the Regional Office normal hours of operation, and special arrangements should be made for deliveries of boxed information. The Regional Office official hours of business are Monday through Friday, 8:30 a.m. to 4:30 p.m., excluding Federal holidays.

Please see the direct final rule which is located in the Rules section of this Federal Register for detailed instructions on how to submit comments.

FOR FURTHER INFORMATION CONTACT: Kathleen D'Agostino, Environmental Engineer, Attainment Planning and Maintenance Section, Air Programs Branch (AR-18J), Environmental Protection Agency, Region 5, 77 West Jackson Boulevard, Chicago, Illinois 60604, (312) 886-1767, dagostino.kathleen@epa.gov.

SUPPLEMENTARY INFORMATION: In the Final Rules section of this Federal Register, EPA is approving the determination of attainment, redesignation, and SIP as a direct final rule without prior proposal because the Agency views this as a noncontroversial action and anticipates no adverse comments. A detailed rationale for the approval is set forth in the direct final rule. If no adverse comments are received in response to this rule, no further activity is contemplated. If EPA receives adverse comments, the direct final rule will be withdrawn and all public comments received will be addressed in a subsequent final rule based on this proposed rule. EPA will not institute a second comment period. Any parties interested in commenting on this action should do so at this time. Please note that if EPA receives adverse comment on an amendment, paragraph, or section of this rule and if that provision may be severed from the remainder of the rule, EPA may adopt as final those provisions of the rule that are not the subject of an adverse comment. For additional information, see the direct final rule which is located in the Rules section of this Federal Register.

Dated: September 12, 2011.
Susan Hedman,
Regional Administrator, Region 5.

[FR Doc. 2011-24375 Filed 9-26-11; 8:45 am]

BILLING CODE 6560-50-P